DEPARTMENT OF HOMELAND SECURITY

Coast Guard

33 CFR Part 100

[Docket No. USCG-2012-1036]

Special Local Regulations; Recurring Marine Events in the Captain of the Port Long Island Sound Zone

AGENCY: Coast Guard, DHS.

ACTION: Notice of enforcement of regulation.

SUMMARY: The Coast Guard will enforce eight special local regulations for marine events in the Sector Long Island Sound area of responsibility on the dates and times listed in the table below. This action is necessary to provide for the safety of life on navigable waterways during the event. During the enforcement period, no person or vessel may enter the regulated area without permission of the Captain of the Port (COTP) Sector Long Island Sound or designated representative.

DATES: The regulations in 33 CFR 100.100 Table 1 will be enforced during the following dates and times listed in the table in SUPPLEMENTARY INFORMATION.

FOR FURTHER INFORMATION CONTACT: If you have questions on this notice, call or email Petty Officer Katherine Linnick, Waterways Management Division, U.S. Coast Guard Sector Long Island Sound; telephone 203-468-4565, email Katherine.E.Linnick@uscg.mil.

SUPPLEMENTARY INFORMATION: The Coast Guard will enforce these special local regulations listed in 33 CFR 100.100 Table 1 on the specified dates and times as indicated below.

Under the provisions of 33 CFR 100, the events listed below are established as special local regulations. During the enforcement periods, persons and vessels are prohibited from entering into, transiting through, mooring, or anchoring within the regulated area unless they receive permission from the COTP or designated representative.

This notice is issued under authority of 33 CFR 100.100(a) and 5 U.S.C. 552(a). In addition to this notice in the Federal Register, the Coast Guard will provide the maritime community with advance notification of these enforcement periods via the Local Notice to Mariners or Marine Information Broadcasts. If the COTP determines that this special local regulation need not be enforced for the full duration stated in this notice, a Broadcast Notice to Mariners may be used to grant general permission to enter the regulated area.

6.1 Swim Across America Greenwich | • Date: July 24, 2017. • Time: 4:30 a.m. to 11:30 p.m.
| • Location: All navigable waters of Stamford Harbor within an area starting at a point in position 41°01′32.03″ N., 073°33′8.93″ W., then southeast to a point in position 41°01′15.01″ N., 073°32′55.58″ W.; then southwest to a point in position 41°0′49.25″ N., 073°33′20.36″ W.; then northwest to a point in position 41°0′58″ N., 073°33′27″ W.; then northeast to a point in position 41°1′15.8″ N., 073°33′9.85″ W., then heading north and ending at point of origin (NAD 83). All positions are approximate.
7.2 Dolan Family Fourth Fireworks | • Date: July 4, 2017. • Rain Date: July 5, 2017.
| • Time: 8:30 a.m. to 10:30 p.m.
| • Location: “No Entry Area”: All waters of Oyster Bay Harbor in Long Island Sound off Oyster Bay, NY within a 1000 foot radius of the launch platform in approximate position 40°53′42.50″ N., 073°30′04.30″ W. (NAD 83).
| • Additional Stipulations: “Slow/No Wake Area”: All waters of Oyster Bay Harbor in Long Island Sound off Oyster Bay, NY contained within the following area; beginning at a point on land in position at 40°53′12.43″ N., 073°31′13.05″ W. near Moses Point; then east across Oyster Bay Harbor to a point on land in position at 40°53′15.12″ N., 073°30′38.45″ W.; then north along the shoreline to a point on land in position at 40°53′34.43″ N., 073°30′33.42″ W. near Cove Point; then east along the shoreline to a point on land in position at 40°53′41.67″ N., 073°29′40.74″ W. near Cooper Bluff; then south along the shoreline to a point on land in position 40°53′05.09″ N., 073°29′23.32″ W. near Eel Creek; then east across Cold Spring Harbor to a point on land in position 40°53′06.69″ N., 073°28′19.9″ W.; then north along the shoreline to a point on land in position 40°55′24.09″ N., 073°29′49.09″ W. near Whitewood Point; then west across Oyster Bay to a point on land in position 40°55′5.29″ N., 073°31′19.47″ W. near Rocky Point; then south along the shoreline to a point on land in position 40°54′04.11″ N., 073°30′29.18″ W. near Plum Point; then northwest along the shoreline to a point on land in position 40°54′09.06″ N., 073°30′45.71″ W.; then southwest along the shoreline to a point on land in position 40°54′03.2″ N., 073°31′01.29″ W.; and then south along the shoreline back to point of origin (NAD 83). All positions are approximate.
7.4 Jones Beach State Park Fireworks | • Date: July 4, 2017. • Rain Date: July 5, 2017.
| • Time: 8:30 p.m. to 10:30 p.m.
| • Location: “No Entry Area”: All waters off of Jones Beach State Park, Wantagh, NY within a 1000 foot radius of the launch platform in approximate position 40°34′56.68″ N., 073°30′31.19″ W. (NAD 83).
| • Additional Stipulations: “Slow/No Wake Area”: All navigable waters between Meadowbrook State Parkway and Wantagh State Parkway and contained within the following area. Beginning in position at 40°35′49.01″ N., 073°32′33.63″ W.; then north along the Meadowbrook State Parkway to its intersection with Merrick Road in position at 40°39′14″ N., 073°34′0.76″ W.; then east along Merrick Road to its intersection with Wantagh State Parkway in position at 40°39′51.32″ N., 073°30′43.36″ W.; then south along the Wantagh State Parkway to its intersection with Ocean Parkway in position at 40°35′47.30″ N., 073°30′29.17″ W.; then west along Ocean Parkway to its intersection with Meadowbrook State Parkway at the point of origin (NAD 83). All positions are approximate. “No Southbound Traffic Area”: All navigable waters of Zach's Bay south of the line connecting a point near the western entrance to Zach's Bay in position at 40°36′29.20″ N., 073°29′22.88″ W. and a point near the eastern entrance of Zach's Bay in position at 40°36′16.53″ N., 073°28′57.26″ W. (NAD 83). All positions are approximate.
8.1 Riverfront Dragon Boat and Asian Festival | • Date: August 19, 2017. • Time: 7:30 a.m. to 5:00 p.m.
| • Location: All waters of the Connecticut River in Hartford, CT between the Bulkeley Bridge at 41°46′10.10″ N., 072°39′56.13″ W. and the Wilbur Cross Bridge at 41°45′11.67″ N., 072°39′13.64″ W. (NAD 83). All positions are approximate.
8.4 Island Beach Two Mile Swim | • Date: August 5, 2017. • Time: 7:30 a.m. to 11:00 a.m.
| • Location: All waters of Captain Harbor between Little Captain's Island and Bower's Island that are located within the box formed by connecting four points in the following positions. Beginning at 40°59′23.35″ N. 073°36′42.05″ W.; then northwest to 40°59′51.04″ N. 073°37′57.32″ W.; then southwest to 40°59′45.17″ N. 073°38′01.18″ W.; then southeast to 40°59′17.38″ N. 073°36′45.9″ W.; then northeast to the point of origin (NAD 83). All positions are approximate.
8.6 Smith Point Triathlon | • Date: August 13, 2017. • Time: 6:30 a.m. to 9:30 a.m.
| • Location: All waters of Narrow Bay near Smith Point Park in Mastic Beach, NY within the area bounded by land along its southern edge and points in position at 40°44′14.28″ N., 072°51′40.68″ W.; then north to a point at position 40°44′20.83″ N., 072°51′40.68″ W.; then east to a point at position 40°44′20.83″ N., 072°51′19.73″ W.; then south to a point at position 40°44′14.85″ N., 072°51′19.73″ W.; and then southwest along the shoreline back to the point of origin (NAD 83). All positions are approximate.

Dated: May 18, 2017.
A.E. Tucci,
Captain, U.S. Coast Guard, Captain of the Port Sector Long Island Sound.

[FR Doc. 2017-12742 Filed 6-19-17; 8:45 am]

BILLING CODE 9110-04-P